DEPARTMENT OF HOMELAND SECURITY

Coast Guard

[USCG-2003-16221]

Chemical Transportation Advisory Committee

AGENCY: Coast Guard, DHS.

ACTION: Notice of meeting.

SUMMARY: The Subcommittee of the Chemical Transportation Advisory Committee (CTAC) on Hazardous Cargo Transportation Security will meet to discuss security issues relating to the marine transportation of hazardous materials in bulk. These meetings will be open to the public.

DATES: The Subcommittee on Hazardous Cargo Transportation Security will meet on Wednesday, October 22, 2003, from 8 a.m. to 4 p.m. and Thursday, October 23, 2003, from 8 a.m. to 4 p.m. These meetings may close early if all business is finished. Written material and requests to make oral presentations should reach the Coast Guard on or before October 17, 2003. Requests to have a copy of your material distributed to each member of the Committee should reach the Coast Guard on or before October 17, 2003.

ADDRESSES: The Subcommittee on Hazardous Cargo Transportation Security will meet at the Department of Transportation Headquarters, Nassif Building, 400 7th Street, SW., Washington, DC, in Room 6332/36. Send written material and requests to make oral presentations to Commander Robert J. Hennessy, Executive Director of CTAC, Commandant (G-MSO-3), U.S. Coast Guard Headquarters, 2100 Second Street SW., Washington, DC 20593-0001. This notice is available on the Internet at http://dms.dot.gov.

FOR FURTHER INFORMATION CONTACT: Commander Robert J. Hennessy, Executive Director of CTAC, or LT Michael McKean, Assistant to the Executive Director, telephone 202-267-1217, fax 202-267-4570.

SUPPLEMENTARY INFORMATION: Notice of these meetings is given under the Federal Advisory Committee Act, 5 U.S.C. App. 2.

Agenda of Subcommittee Meeting on October 22-23, 2003

(1) Discuss potential addition of Ammonium Nitrate to the Certain Dangerous Cargo (CDC) definition.

(2) Discuss development of the implementation and compliance program for the regulations that promulgate maritime security requirements that are mandated by the Maritime Transportation Security Act (MTSA) of 2002.

Procedural

These meetings are open to the public. Please note that the meetings may close early if all business is finished. At the discretion of the Chair, members of the public may make oral presentations during the meetings. If you would like to make an oral presentation at a meeting, please notify the Executive Director and submit written material. If you would like a copy of your material distributed to each member of the Committee in advance of a meeting, please submit 25 copies to the Executive Director (see ADDRESSES and DATES).

Information on Services for Individuals With Disabilities

For information on facilities or services for individuals with disabilities, or to request special assistance at the meeting, telephone the Executive Director as soon as possible.

Dated: September 23, 2003.
Joseph J. Angelo,
Director of Standards, Marine Safety, Security and Environmental Protection.

[FR Doc. 03-24572 Filed 9-26-03; 8:45 am]

BILLING CODE 4910-15-P